COMMODITY FUTURES TRADING COMMISSION

Privacy Act of 1974 System of Records Notice

AGENCY: Commodity Futures Trading Commission.

ACTION: Notice of the retirement of two Privacy Act systems of records notices.

SUMMARY: In accordance with the Privacy Act of 1974, the Commodity Futures Trading Commission (Commission) is providing notice that it is retiring two systems of records notices (SORNs), CFTC-20 Registration and CFTC-28 Self-Regulatory Organization Disciplinary Action Files, from its inventory of record systems because the relevant records are covered by the revised SORN CFTC-12, National Futures Association (NFA) Applications Suite System (Exempted).

DATES: This action will be effective November 14, 2014.

FOR FURTHER INFORMATION CONTACT: Kathy Harman-Stokes, Chief Privacy Officer, kharman-stokes@cftc.gov, 202-418-6629, Office of the Executive Director, Commodity Futures Trading Commission, Three Lafayette Centre, 1155 21st Street NW., Washington, DC 20581.

SUPPLEMENTARY INFORMATION: Pursuant to the Privacy Act of 1974, 5 U.S.C. 552a, and as part of the Commodity Futures Trading Commission effort to review and update system of records notices, the Commission is retiring two system of records notices, CFTC-20 Registration and CFTC-28 Self-Regulatory Organization Disciplinary Action Files. The Commission is retiring these system notices because the records are covered by the revised SORN CFTC-12, NFA Applications Suite System.

The Commission will continue to authorize the NFA to collect and maintain records on its behalf by delegated authority, as provided in the revised CFTC-12, National Futures Association (NFA) Applications Suite System (Exempted). The Commission will rely upon and follow the revised CFTC-12 NFA Applications Suite System (Exempted). Eliminating CFTC-20 and CFTC-28 will not have an adverse impact on individuals and will promote the overall streamlining and management of CFTC Privacy Act record systems.

Accordingly, as of its effective date, this notice formally terminates system of records notices CFTC-20 and CFTC-28 and removes them from the inventory of the Commodity Futures Trading Commission system of records notices.

Issued in Washington, DC, on September 24, 2014, by the Commission.
Christopher J. Kirkpatrick,
Secretary of the Commission.

[FR Doc. 2014-23203 Filed 9-29-14; 8:45 am]

BILLING CODE 6351-01-P